DEPARTMENT OF JUSTICE

Parole Commission

Sunshine Act Meetings

TIME AND DATE: 12:00 p.m., Thursday, August 8, 2013.

PLACE: U.S. Parole Commission, 90 K Street NE., 3rd Floor, Washington, DC

STATUS: Closed.

MATTERS TO BE CONSIDERED: Determination on three original jurisdiction cases.

CONTACT PERSON FOR MORE INFORMATION: Patricia W. Moore, Staff Assistant to the Chairman, U.S. Parole Commission, 90 K Street NE., 3rd Floor, Washington, D.C . 20530, (202) 346-7001.

Dated: July 30, 2013.
Rockne J. Chickinell,
General Counsel, U.S. Parole Commission.

[FR Doc. 2013-18799 Filed 7-31-13; 4:15 pm]

BILLING CODE 4410-31-P